NUCLEAR REGULATORY COMMISSION

Advisory Committee on Nuclear Waste; Notice of Meeting

The Advisory Committee on Nuclear Waste (ACNW) will hold a Planning and Procedures Meeting during February 27-March 1, 2002, at the Four Points Sheraton-Tucson University Plaza, 1900 E. Speedway Blvd., Tucson, Arizona.

The meeting will be open to public attendance, with the exception of a portion that may be closed pursuant to 5 U.S.C. 552b(c) (2) and (6) to discuss organizational and personnel matters that relate solely to internal personnel rules and practices of ACNW, and information the release of which would constitute a clearly unwarranted invasion of personal privacy.

The agenda for the subject meeting shall be as follows:

Wednesday, February 27, 2002—8:30 a.m. Until the Conclusion of Business

The Committee will discuss the adequacy of the process for conducting ACNW business including a facilitated discussion on improving Committee effectiveness and efficiency. In addition, it will discuss insights gained from the Waste Management 2002 Conference and the issues the ACNW should address in 2002.

Thursday, February 28, 2002—8:30 a.m. Until the Conclusion of Business

The Committee will discuss its existing mission and objectives, its effectiveness during the past year, and possible process improvements that could result in increased effectiveness during 2002.

Friday, March 1, 2002—8:30 a.m. Until the Conclusion of Business

The Committee will summarize its consensus on issues, consider its draft report on the NRC Safety Research Program, and finalize its March 20, 2002 Commission briefing presentation.

Oral statements may be presented by members of the public with the concurrence of the Chairman; written statements will be accepted and made available to the Committee. Electronic recordings will be permitted only during those portions of the meeting that are open to the public, and questions may be asked only by members of the Committee, its consultants, and staff. Persons desiring to make oral statements should notify the cognizant ACNW staff person named below five days prior to the meeting, if possible, so that appropriate arrangements can be made.

Further information regarding topics to be discussed, the scheduling of sessions open to the public, whether the meeting has been canceled or rescheduled, the Chairman's ruling on requests for the opportunity to present oral statements, and the time allotted therefor can be obtained by contacting the cognizant ACNW staff person, Howard J. Larson (telephone: 301/415-6805) between 7:30 a.m. and 4:15 p.m. (EST). Persons planning to attend this meeting are urged to contact the above named individual one or two working days prior to the meeting to be advised of any changes in schedule that may have occurred.

Dated: February 8, 2002.
Sher Bahadur,
Associate Director for Technical Support, ACRS/ACNW.

[FR Doc. 02-3752 Filed 2-14-02; 8:45 am]

BILLING CODE 7590-01-P